ENVIRONMENTAL PROTECTION AGENCY

[FRL-6538-7]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Call Sandy Farmer at (202) 260-2740, or E-mail at “farmer.sandy@epa.gov”, and please refer to the appropriate EPA Information Collection Request (ICR) Number.

SUPPLEMENTARY INFORMATION:

OMB Responses to Agency Clearance Requests

OMB Approvals

EPA ICR No. 0152.06; Notice of Arrival of Pesticides and Devices; in 19 CFR part 12; was approved 12/06/99; OMB No. 2070-0020; expires 12/31/2002.

EPA ICR No. 0261.13; Notification of regulated Waste Activity; in 40 CFR parts 262, 263, 264, 266, 270, 273, and 279; was approved 12/15/99; OMB No. 2050-0028; expires 12/31/2002.

EPA ICR No. 1571.06; General Hazardous Waste Facility Standards; in 40 CFR parts 264, 265, and 270; was approved 12/22/99; OMB No. 2050-0120; expires 12/31/2002.

EPA ICR No. 0658.07; NSPS for Pressure-Sensitive Tape and Label Surface Coating Operations; in 40 CFR part 60, subpart RR; was approved 01/11/2000; OMB No. 2060-0004; expires 01/31/2003.

EPA ICR No. 0649.07; NSPS for Metal Furniture Coating; in 40 CFR part 60, subpart EE; was approved 01/11/2000; OMB No. 2060-0106; expires 01/31/2003.

EPA ICR No. 1167.06; NSPS for Lime Manufacturing; in 40 CFR part 60, subpart HH; was approved 01/11/2000; OMB No. 2060-0063; expires 01/31/2003.

EPA ICR No. 0998.06; Standards of Performance of Volatile Organic Compound (VOC) Emissions for the Synthetic Organic Chemical Manufacturing Industry (SOCMI), Air Oxidation Unit Processes; in 40 CFR part 60, subpart NNN; was approved 01/11/2000; OMB No. 2060-0197; expires 01/31/2003.

EPA ICR No. 0663.07; NSPS for Beverage Can Surface Coating; in 40 CFR part 60, subpart WW; was approved 01/11/2000; expires 01/31/2003.

EPA ICR No. 1127.06; NSPS for Hot Mix Asphalt Facilities; in 40 CFR part 60, subpart I; was approved 01/11/2000; OMB No. 2060-0083; expires 01/31/2003.

EPA ICR No. 0997.06; NSPS for Petroleum Dry Cleaners; in 40 CFR part 60, subpart JJJ; was approved 01/11/2000; OMB No. 2060-0079; expires 01/31/2003.

EPA ICR No. 1156.08; NSPS for Synthetic Fiber Production Facilities; in 40 CFR part 60, subpart HHH; was approved 01/11/2000; OMB No. 2060-0059; expires 01/31/2003.

EPA ICR No. 0660.07; NSPS for Metal Coil Surface Coating; in 40 CFR part 60, subpart TT; was approved 01/11/2000; OMB No. 2060-0107; expires 01/31/2003.

EPA ICR No. 1130.06; NSPS for Grain Elevators; in 40 CFR part 60, subpart DD; was approved 01/11/2000; OMB No. 2060-0082; expires 01/31/2003.

EPA ICR No. 0659.08; NSPS for Large Appliance Surface Coating; in 40 CFR part 60, subpart SS; was approved 01/11/2000; OMB No. 2060-0108; expires 01/31/2003.

Action Withdrawn

EPA ICR No. 1906.01; Agricultural Health Study: Pesticide Exposure Study; on 12/13/99 this collection was withdrawn from review by EPA.

Extensions of Expiration Dates

EPA ICR No. 0282.10; Emission Defect Information and Voluntary Emission Recall Reports; in 40 CFR parts 85 and 91; OMB No. 2060-0048; on 11/29/99 OMB extended the expiration date through 03/31/2000.

EPA ICR No. 1715.02; TSCA Section 402 and Section 404 Training and Certification, Accreditation, and Standards for Lead-Based Paint Activities; in 40 CFR part 745; OMB No. 2070-0155; on 11/30/99 OMB extended the expiration date through 05/31/2000.

EPA ICR No. 0113.06; NESHAP for Mercury; OMB No. 2060-0097; in 40 CFR part 61, subpart E; on 12/07/99 OMB extended the expiration date through 02/29/2000.

EPA ICR No. 1052.05; NSPS for Fossil-Fuel-Fired Steam Generating Units; in 40 CFR part 60, subpart D; OMB No. 2060-0026; on 12/07/99 OMB extended the expiration date through 02/29/2000.

EPA ICR No. 1687.03; NESHAP for Aerospace Manufacturing and Rework Operations; in 40 CFR part 63, subpart GG; OMB No. 2060-0314; on 12/13/99 OMB extended the expiration date through 03/31/2000.

EPA ICR No. 0275.06; Pre-award Compliance Review Report; in 40 CFR part 7; OMB No. 2090-0014; on 12/16/99 OMB extended the expiration date through 03/31/2000.

EPA ICR No. 1362.03; National Emission Standards for Coke Oven Batteries; in 40 CFR part 63, subpart L; OMB No. 2060-0253; on 12/22/99 OMB extended the expiration date through 04/30/2000.

EPA ICR No. 0597.06; Maximum Residue Limit (M.L.) Petitions on Food/Feed Crops and New Inert Ingredients; in 40 CFR parts 177, 178, and 180; OMB No. 2070-0024; on 12/27/99 OMB extended the expiration date through 03/31/2000.

EPA ICR No. 0922.05; Data Call-In for Special Review Chemicals; in 40 CFR part 158; OMB No. 2070-0057; on 12/27/99 OMB extended the expiration date through 03/31/2000.

EPA ICR No. 1504.03; Data Generation for Registration Activities; in 40 CFR part 158; OMB No. 2070-0107; on 12/27/99 OMB extended the expiration date through 03/31/2000.

EPA ICR No. 1088.08; NSPS for Industrial Commercial Institutional Steam Generating Units; in 40 CFR part 60, subpart Db; OMB No. 2060-0072; on 12/27/99 OMB extended the expiration date through 03/31/2000.

EPA ICR No. 1764.01; National Volatile Organic Compound Emission Standards for Consumer Products; in 40 CFR part 59, subpart C; OMB No. 2060-0348; on 12/29/99 OMB extended the expiration date through 03/31/2000.

EPA ICR No. 1739.02; National Emission Standards for Hazardous Air Pollutants for the Printing and Publishing Industry; in 40 CFR part 63, subpart KK; OMB No. 2060-0335; on 01/04/2000 OMB extended the expiration date through 03/31/2000.

EPA ICR No. 1178.04; NSPS for Synthetic Organic Chemical Manufacturing Industry (SOCMI) Reactor Processes; in 40 CFR part 60, subpart RRR; OMB No. 2060-0269; on 01/05/2000 OMB extended the expiration date through 03/31/2000.

EPA ICR No. 1765.01; National Volatile Organic Compound Emission Standards for Automobile Refinish Coating; in 40 CFR part 59, subpart D; OMB No. 2060-0353; on 01/05/2000 OMB extended the expiration date through 03/31/2000.

EPA ICR No. 1381.05; Recordkeeping and Reporting Requirements for Solid Waste Disposal Facilities and Practices; in 40 CFR part 258; OMB No. 2050-0122; on 01/10/2000 OMB extended the expiration date through 04/30/2000.

EPA ICR No. 1086.05; Standards of Performance for Onshore Natural Gas Processing Plants; in 40 CFR part 60, subpart KKK and LLL; OMB No. 2060-0120; on 01/10/2000 OMB extended the expiration date through 03/31/2000.

EPA ICR No. 1128.05; Information Requirements for Secondary Lead Smelters, Standards of Performance for New Stationary Sources; in 40 CFR part 60, subpart L; OMB No. 2060-0080; on 01/10/2000 OMB extended the expiration date through 03/31/2000.

Change in Expiration Date

EPA ICR No. 1830.01; Collection of 1997 Iron and Steel Industry Data; OMB No. 2040-0193; at EPA's request, on 12/07/99 OMB changed the expiration date from 08/31/2001 to 12/31/1999.

Dated: February 10, 2000.
Oscar Morales,
Director, Collection Strategies Division.

[FR Doc. 00-3852 Filed 2-16-00; 8:45 am]

BILLING CODE 6560-50-P